DEPARTMENT OF HEALTH AND HUMAN SERVICES

National Institutes of Health

Center for Scientific Review; Amended Notice of Meeting

Notice is hereby given of a change in the meeting of the Genetics of Health and Disease Study Section, October 10, 2013, 08:30 a.m. to October 11, 2013, 12:30 p.m., Avenue Hotel Chicago, 160 E. Huron Street, Chicago, IL 60611 which was published in the Federal Register on September 12, 2013, 78 FR 56239.

The meeting will start on December 9, 2013 at 8:30 a.m. and end on December 10, 2013 at 1:30 PM. The meeting will be held at the Renaissance Washington, DC Dupont Circle Hotel, 1143 New Hampshire Avenue, Washington, DC 20037. The meeting is closed to the public.

Dated: October 31, 2013.
Carolyn A. Baum,
Program Analyst, Office of Federal Advisory Committee Policy.

[FR Doc. 2013-26532 Filed 11-5-13; 8:45 am]

BILLING CODE 4140-01-P